DEPARTMENT OF AGRICULTURE

Submission for OMB Review; Comment Request

January 21, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology.

Comments regarding this information collection received by February 27, 2015 will be considered. Written comments should be addressed to: Desk Officer for Agriculture, Office of Information and Regulatory Affairs, Office of Management and Budget (OMB), New Executive Office Building, 725—17th Street NW., Washington, DC, 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: 36 CFR part 228, subpart A—Locatable Minerals.

OMB Control Number: 0596-0022.

Summary of Collection: The United States Mining Law of 1982, as amended, governs the prospecting for and appropriation of metallic and most nonmetallic minerals on 192 millions acres of National Forest set up by proclamation from the public domain. It gives individuals the right to search for and extract valuable mineral deposits of locatable minerals and secure title to the lands involved. Recording that claim in the local courthouse and with the appropriate BLM State Office affords protection to the mining claimant from subsequent locators. A mining claimant is entitled to reasonable access to claim for further prospecting, mining or necessary related activities, subject to the other laws and applicable regulations. The purpose of the regulations at 36 CFR part 228, subpart A, is to set some specific rules and procedures through which use of the surface of National Forest System lands in connection with mineral operations authorized by the United States mining laws shall be conducted so as to minimize adverse environmental impacts on surface resources. The Forest Service (FS) will collect information using form FS 2800-5, Plan of Operations for Mining Activities on National Forest System Lands.

Need and Use of the Information: FS will collect information requirements for a Notice of Intent to include the name, address, and telephone number of the operator; the area involved; the nature of the proposed operations; the route of access to the area of operations and the method of transport. The information requirements for a Plan of Operations includes: the name and legal mailing address of the operators; a description of the type of operations proposed; a description of how it would be conducted; a description of the type and standard of existing/proposed roads/access route; a description of the means of transportation to be used; a description of the period during which the proposed activity will take place; and measures to meet the environmental protection requirements. The information requirements for a cessation of operation include: verification to maintain the structures, equipment and other facilities; expected reopening date; estimate of extended duration of operations; and maintenance of the site, structure, equipment and other facilities during nonoperating periods.

Description of Respondents: Business or other for-profit.

Number of Respondents: 283.

Frequency of Responses: Reporting: Other (approved for a given period).

Total Burden Hours: 1,673.

Forest Service

Title: Foreign Travel Proposal (Non-Federal).

OMB Control Number: 0596-0216.

Summary of Collection: Federal Travel Regulations—part 301-10 covers transportation expenses for those whose air travel is financed by U.S. government funds. USDA Departmental regulation, DM 2300-1, is the primary source of USDA policy on managing temporary duty travel for private citizens (not Federal employees) traveling to foreign countries on behalf of the Forest Service. The collection of this information is necessary to facilitate timely issuance of foreign travel authorizations. This information is shared with the USDA Foreign Agriculture Service; US State Department; foreign embassies in Washington, DC; and U.S. embassies in all destination countries.

Need and Use of the Information: The FS, USDA, International Programs Travel Section uses FS-6500-1, Foreign Travel Proposal to collect the traveler's destination, purpose of trip, and dates of travel. Also collected are name, address, contact telephone numbers, passport information, country of citizenship, security clearance, as well as contacts at each destination and hotel information. Without this information the FS cannot provide support to international programs or other countries who have requested assistance.

Description of Respondents: Individuals or households.

Number of Respondents: 200.

Frequency of Responses: Reporting: Annually.

Total Burden Hours: 67.

Charlene Parker,
Departmental Information Collection Clearance Officer.

[FR Doc. 2015-01538 Filed 1-27-15; 8:45 am]

BILLING CODE 3411-15-P